DEPARTMENT OF COMMERCE

Foreign-Trade Zones Board

[Docket 52-2010]

Foreign-Trade Zone 272—Lehigh Valley, Pennsylvania, Application for Subzone, Piramal Critical Care, Inc. (Inhalation Anesthetics Manufacturing and Distribution), Bethlehem, Pennsylvania

An application has been submitted to the Foreign-Trade Zones Board (the Board) by the Lehigh Valley Economic Development Corporation (LVEDC), grantee of FTZ 272, requesting special-purpose subzone status for the inhalation anesthetics manufacturing facilities of Piramal Critical Care, Inc. (Piramal), located in Bethlehem, Pennsylvania. The application was submitted pursuant to the provisions of the Foreign-Trade Zones Act, as amended (19 U.S.C. 81a-81u), and the regulations of the Board (15 CFR part 400). It was formally filed on August 31, 2010.

The Piramal facilities (95 employees, 445 metric ton capacity) consist of 2 sites on 4.3 acres: Site 1 (4.0 acres) is located at 3950 Sheldon Circle, Bethlehem; and Site 2 (0.3 acres) is located at 2550 Brodhead Road, Bethlehem. The facilities are used for the manufacture and distribution of inhalation anesthetics Sevoflurane and Isoflurane. Components and materials sourced from abroad (representing 23% of the value of the finished product) include: Hexafluoroisopropyl Methyl Ether (HFMOP) and Trifluoroethanol (TFE) (duty rate of 5.5%). The application also requests authority to include a limited secondary scope of inputs and finished pharmaceutical products that Piramal may produce under FTZ procedures in the future. New major activity involving these inputs/products would require review by the FTZ Board.

FTZ procedures could exempt Piramal from customs duty payments on the foreign components used in export production. The company anticipates that some 40 percent of the plant's shipments will be exported. On its domestic sales, Piramal would be able to choose the duty rates during customs entry procedures that apply to Sevoflurane and Isoflurane (duty free) for the foreign inputs noted above. FTZ designation would further allow Piramal to realize logistical benefits through the use of weekly customs entry procedures. Customs duties also could possibly be deferred or reduced on foreign status production equipment. The request indicates that the savings from FTZ procedures would help improve the plant's international competitiveness.

In accordance with the Board's regulations, Maureen Hinman of the FTZ Staff is designated examiner to evaluate and analyze the facts and information presented in the application and case record and to report findings and recommendations to the Board.

Public comment is invited from interested parties. Submissions (original and 3 copies) shall be addressed to the Board's Executive Secretary at the address below. The closing period for their receipt is November 8, 2010. Rebuttal comments in response to material submitted during the foregoing period may be submitted during the subsequent 15-day period to November 22, 2010.

A copy of the application will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Maureen Hinman at maureen.hinman@trade.gov or (202) 482-0627.

Dated: August 31, 2010.
Andrew McGilvray,
Executive Secretary.

[FR Doc. 2010-22377 Filed 9-7-10; 8:45 am]

BILLING CODE 3510-DS-S